DEPARTMENT OF THE INTERIOR

Bureau of Land Management

[NV-050-5853-ES; N-75716 and N-41566-14; 8-08807]

Notice of Realty Action: Lease/Conveyance for Recreation and Public Purposes of Public Lands in Clark County, NV

AGENCY: Bureau of Land Management, Interior.

ACTION: Notice of Realty Action.

SUMMARY: Recreation and Public Purposes (R&PP) Act request for lease and subsequent conveyance of approximately 20 acres in two separate parcels of public land in Clark County, Nevada. The Clark County School District (CCSD) proposes to use the land for one 15-acre public elementary school and one five-acre addition to an existing public high school.

DATES: Interested parties may submit written comments regarding the proposed lease/conveyance of the lands until January 14, 2008.

ADDRESSES: Mail written comments to the BLM Las Vegas Field Manager, Las Vegas Field Office, 4701 N. Torrey Pines Drive, Las Vegas, NV 89130-2301.

FOR FURTHER INFORMATION CONTACT: Brenda Warner, (702) 515-5084.

SUPPLEMENTARY INFORMATION: The following described public lands in Las Vegas, Clark County, Nevada have been examined and found suitable for lease and subsequent conveyance under the provisions of the R&PP Act, as amended (43 U.S.C. 869 et seq.) On parcel one, identified as serial number N-75716, CCSD proposes to use 15 acres of land for an elementary school. The elementary school structure will be similar to the design of Marshall Darnell Elementary School. The building consists of 62,500 square feet and contains twenty-nine classrooms, one library, a multipurpose room, and a teachers' lounge. The structure will feature tilt-up concrete slabs with a refrigerated air-conditioned system and a heating system. The school will accommodate an estimated enrollment of 660 students. This area is currently serviced by Aggie Roberts Elementary school which is on a year-round schedule. The new school will alleviate overcrowding and allow both schools to maintain nine month schedules. This parcel is located in the southeastern part of valley, northeast of the intersection of Spencer Street and Pebble Road, and can be described as:

Mount Diablo Meridian, Nevada

T. 22 S., R. 61 E.,

Sec. 14, W½NW¼NE¼SW¼SE¼, W½SW¼NE¼SW¼SE¼, NE¼NW¼SW¼SE¼, E½NW¼NW¼SW¼SE¼, E½SW¼NW¼SW¼SE¼, SE¼NW¼SW¼SE¼, NE¼SW¼SW¼SE¼, E½NW¼SW¼SW¼SE¼, W½NW¼SE¼SW¼SE¼.

On parcel two, identified as BLM serial number N-41566-14, CCSD proposes to use five acres of land to add to their current twenty-acre lease for the Career and Technical Academy (high school). Increased student enrollment has created a need for a larger structure and campus. N-41566-14 is located in the southwestern part of the valley, southwest of the intersection of Windmill Lane and South Rainbow Boulevard and can be described as:

Mount Diablo Meridian, Nevada

T. 22 S., R. 60 E.,

Sec. 15, E½SE¼NW¼NE¼.

The land is not required for any federal purpose. The proposed actions are in conformance with the Las Vegas Resource Management Plan approved on October 5, 1998, and would be in the public interest. The Plans of Development have been reviewed and it is determined the proposed actions conform with land use plan decision, LD-1, established in accordance with Section 202 of Federal Land Policy and Management Act of 1976, as amended (43 U.S.C. 1712). The leases/conveyances, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine, and remove such deposits from the lands under applicable law and such regulations as the Secretary of the Interior may prescribe, including all necessary access and exit rights.

The leases/conveyances will be subject to:

(1) Valid and existing rights.

(2) N-75716:

(a) A right-of-way for road, public utility, and drainage purposes granted to Clark County, its successors or assigns, by right-of-way N-75018, pursuant to the Act of October 21, 1976 (43 U.S.C. 1761);

(b) A right-of-way for power line purposes granted to Nevada Power Company, its successors or assigns, by right-of-way N-00597, pursuant to the Act of October 21, 1976 (43 U.S.C. 1761);

(c) A right-of-way for power line purposes granted to Nevada Power Company, its successors or assigns, by right-of-way N-07664, pursuant to the Act of March 4, 1911 (43 U.S.C. 961);

(d) A right-of-way for telephone purposes granted to Central Telephone, its successors or assigns, by right-of-way N-79652, pursuant to the Act of October 21, 1976 (43 U.S.C. 1761);

(e) A right-of-way for telephone purposes, granted to Central Telephone, its successors or assigns, by right-of-way N-06486, pursuant to the Act of February 15, 1901 (43 U.S.C. 959); and

(f) A right-of-way for power line purposes granted to Nevada Power Company, its successors or assigns, by right-of-way N-79259, pursuant to the Act of October 21, 1976 (43 U.S.C. 1761).

(3) N-41566-14:

(a) A right-of-way for a sewer line granted to Clark County Water Reclamation District, its successors or assigns, by right-of-way N-78573, pursuant to the Act of October 21, 1976, (43 U.S.C. 1761); and

(b) A right-of-way for drainage purposes granted to Clark County, its successors or assigns, by right-of-way N-78802, pursuant to the Act of October 21, 1976, (43 U.S.C. 1761).

On November 28, 2007, the lands described above will be segregated from all other forms of appropriation under the public land laws, including the general mining laws, except for lease/conveyance under the R&PP Act, leasing under the mineral leasing laws, and disposals under the mineral material disposal laws.

Detailed information concerning these actions is available for review at the office of the Bureau of Land Management, Las Vegas Field Office at the address listed above. Interested parties may submit comments regarding the specific use proposed in the applications and Plans of Development, whether the BLM followed proper administrative procedures in reaching the decision to lease/convey under the R&PP Act, or any other factor not directly related to the suitability of the land for public schools. Any adverse comments will be reviewed by the BLM Nevada State Director who may sustain, vacate, or modify this realty action. In the absence of any adverse comments, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the Field Manager BLM Las Vegas Field Office will be considered properly filed. Electronic mail, facsimile or telephone comments will not be considered properly filed.

In the absence of any adverse comments, the decision will become effective on January 28, 2008. The lands will not be available for lease/conveyance until after the decision becomes effective.

(Authority: 43 CFR 2741.5)

Dated: November 14, 2007.
Mark R. Chatterton,
Assistant Field Manager, Non-Renewable Resources, Las Vegas, Nevada.

[FR Doc. E7-23121 Filed 11-27-07; 8:45 am]

BILLING CODE 4310-HC-P